DEPARTMENT OF AGRICULTURE

Forest Service

Airport Forest Health Timber Sale, Eldorado National Forest, Pacific Ranger District, El Dorado County, California

AGENCY: Forest Service, USDA.

ACTION: Cancellation of Notice of Intent.

SUMMARY: This document provides notice of cancellation of the intent to prepare an environmental impact statement (EIS) on a proposal to harvest timber, prescribe burn, and improve wildlife habitat on the Pacific Ranger District.

DATES: The draft environmental impact statement was originally scheduled for August 2000 with a 45-day public review and comment period. The publishing and distribution of this draft EIS is cancelled.

FOR FURTHER INFORMATION CONTACT: Don Errington, Project Leader, Pacific Ranger Station, 7887 Highway 50, Pollock Pines, California, 95726, Phone (530) 644-2349.

SUPPLEMENTARY INFORMATION: A Notice of Intent to prepare an environmental impact statement for the Airport Forest Health Timber Sale was published in the Federal Register on June 27, 2000 (Volume 65, Number 124, pp 39594-39596) announcing the intent to prepare and release a draft EIS in August 2000 with a final EIS scheduled for September 2000.

The original notice of intent informed the public of the agency's intention to document the analysis in an EIS. The primary reason for the cancellation is a change in management direction for the project area.

Dated: February 19, 2002.
John Berry,
Forest Supervisor, Eldorado National Forest.

[FR Doc. 02-4369 Filed 2-22-02; 8:45 am]

BILLING CODE 3410-11-M